DEPARTMENT OF TRANSPORTATION

Federal Aviation Administration

[Docket No. FAA-2025-0493]

Agency Information Collection Activities: Requests for Comments; Clearance of Renewed Approval of Information Collection: Hazardous Materials Training Requirements

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on June 17, 2025. Two comments were received and responded to in the supporting statement accessible following the instructions outlined in the ADDRESSES section of this notice. This collection involves the FAA's certification process and requirements for Part 121 and 135 certificate holders and Part 145 repair stations that are related to hazardous materials acceptance, handling, and transportation.

DATES: Written comments should be submitted by January 21, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Shelby Geller by email at: hazmatinfo@faa.gov; phone: 405-954-0088.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0705.

Title: Hazardous Materials Training Requirements.

Form Numbers: There are no FAA forms associated with this information collection.

Type of Review: Renewal of an information collection.

Background: The Federal Register Notice with a 60-day comment period soliciting comments on the following collection of information was published on June 17, 2025 (90 FR 25742). As prescribed in Title 14 of the Code of Federal Regulations (14 CFR) parts 121 and 135, the FAA requires certificate holders to submit hazardous materials (hazmat) procedures and information (sometimes referred to as hazmat manuals) and hazmat training programs as a part of the FAA's certification process. In addition, revisions to an approved hazmat training program must be submitted following certification to obtain initial and final approval as part of the FAA's certification process. Revisions to an accepted manual may be requested following certification. Initial certification is completed in accordance with 14 CFR part 119. Continuing certification is completed in accordance with 14 CFR parts 121 and 135. The FAA uses the certification process to review the certificate holder's hazmat manual and training programs for compliance with the applicable regulations, national policies, and safe operating practices. It also ensures that the documents adequately establish safe operating procedures. Additionally, 14 CFR part 145 requires certain repair stations to provide documentation showing that persons handling hazmat for transportation have been trained in accordance with 49 CFR parts 171 through 180. The submission of this documentation is covered in this information collection.

In this renewal, the FAA plans to editorially revise the title of this information collection to “Hazardous Materials Program Requirements” to better reflect the information collected under this OMB Control Number. There are no changes to the information collected under this request.

Comments Received: In response to the 60-day notice, the FAA received two comments.

Respondents: The FAA estimates 62 certificate holders under Part 121, 1,844 certificate holders under Part 135, and 4,989 certificate holders under Part 145.

Frequency: Information is collected on occasion. Part 121 and 135 certificate holders submit their hazmat manual and training program during certification. If a certificate holder revises their hazmat training program or its manual, they must provide their approved training program to the FAA and accepted manual, when appropriate. A part 145 repair station is required to submit documentation to the FAA certifying that their hazmat employees are trained in accordance with the 49 CFR parts 171 through 180 to receive initial certification.

Estimated Average Burden per Response: 6.08 hours for Part 121 certificate holders, 3.58 hours for Part 135 certificate holders, and 2.16 hours for Part 145 repair stations.

Estimated Total Annual Burden: 23,282 hours for Part 121 certificate holders, 15,635 hours for Part 135 certificate holders, and 1,396 hours for Part 145 repair stations.

Issued in Washington, DC, on December 17, 2025.
Walter J. McBurrows, III,
Acting Executive Director, FAA, Office of Hazardous Materials Safety.

[FR Doc. 2025-23514 Filed 12-19-25; 8:45 am]

BILLING CODE 4910-13-P